DEPARTMENT OF LABOR

Employment and Training Administration

[TA-W-42,302]

Trends Clothing Corporation a.k.a. Trends International Including Leased Workers of Fidelity United, Miami, FL

Amended Certification Regarding Eligibility To Apply for Worker Adjustment Assistance

In accordance with section 223 of the Trade Act of 1974 (19 U.S.C. 2273) the Department of Labor issued a Certification of Eligibility to Apply for Worker Adjustment Assistance on November 8, 2002, applicable to workers of Trends Clothing Corporation, a.k.a. Trends International, Miami, Florida. The notice was published in the Federal Register on November 27, 2002 (67 FR 70970).

At the request of the State agency, the Department reviewed the certification for workers of the subject firm. New information shows that leased workers of Fidelity United were engaged in activities related to the production of junior's sportswear at Trends Clothing Corporation, a.k.a Trends International at the Miami, Florida location of the subject firm.

Based on these findings, the Department is amending this certification to include leased workers of Fidelity United working at Trends Clothing Corporation, a.k.a. Trends International, Miami, Florida.

The intent of the Department's certification is to include all workers employed at Trends Clothing Corporation, a.k.a. Trends International, who were adversely affected by increased imports.

The amended notice applicable to TA-W-42,302 is hereby issued as follows:

All workers of Trends Clothing Corporation, a.k.a. Trends International, including leased workers of Fidelity United working at Trends Clothing Corporation, a.k.a. Trends International, Miami, Florida, who became totally or partially separated from employment on or after October 9, 2001, through November 8, 2004, are eligible to apply for adjustment assistance under section 223 of the Trade Act of 1974.

Signed at Washington, DC this 18th day of February, 2004.
Elliott S. Kushner,
Certifying Officer, Division of Trade Adjustment Assistance .

[FR Doc. 04-4979 Filed 3-4-04; 8:45 am]

BILLING CODE 4510-30-P